DEPARTMENT OF ENERGY

Federal Energy Regulatory Commission

Combined Notice of Filings #1

Take notice that the Commission received the following electric corporate filings:

Docket Numbers: EC22-26-000.

Applicants: Liberty Utilities Co., Kentucky Power Company, AEP Kentucky Transmission Company, Inc.

Description: Joint Application for Authorization Under Section 203 of the Federal Power Act of Liberty Utilities Co, et al.

Filed Date: 12/22/21.

Accession Number: 20211222-5330.

Comment Date: 5 p.m. ET 1/12/22.

Docket Numbers: EC22-27-000.

Applicants: FirstEnergy Corp.

Description: Application for Authorization Under Section 203 of the Federal Power Act of FirstEnergy Corp.

Filed Date: 12/22/21.

Accession Number: 20211222-5332.

Comment Date: 5 p.m. ET 1/12/22.

Take notice that the Commission received the following exempt wholesale generator filings:

Docket Numbers: EG22-33-000.

Applicants: Mesa Wind Power LLC.

Description: Notice of Self-Certification of Exempt Wholesale Generator Status of Mesa Wind Power LLC.

Filed Date: 12/22/21.

Accession Number: 20211222-5195.

Comment Date: 5 p.m. ET 1/12/22.

Docket Numbers: EG22-34-000.

Applicants: AM Wind Repower LLC.

Description: Notice of Self-Certification of Exempt Wholesale Generator Status of AM Wind Repower LLC.

Filed Date: 12/22/21.

Accession Number: 20211222-5197.

Comment Date: 5 p.m. ET 1/12/22.

Docket Numbers: EG22-35-000.

Applicants: Mulligan Solar, LLC.

Description: Notice of Self-Certification of Exempt Wholesale Generator Status of Mulligan Solar, LLC.

Filed Date: 12/23/21.

Accession Number: 20211223-5045.

Comment Date: 5 p.m. ET 1/13/22.

Take notice that the Commission received the following electric rate filings:

Docket Numbers: ER11-3401-016; ER11-3576-017.

Applicants: Golden Spread Electric Cooperative, Inc., Golden Spread Panhandle Wind Ranch, LLC.

Description: Triennial Market Power Analysis for Southwest Power Pool Inc. Region of Golden Spread Panhandle Wind Ranch, LLC, et al.

Filed Date: 12/22/21.

Accession Number: 20211222-5273.

Comment Date: 5 p.m. ET 2/21/22.

Docket Numbers: ER20-1573-001.

Applicants: DesertLink, LLC.

Description: Compliance filing: DesertLinks Amended Order No. 864 Compliance Filing to be effective 1/27/2020.

Filed Date: 12/23/21.

Accession Number: 20211223-5078.

Comment Date: 5 p.m. ET 1/13/22.

Docket Numbers: ER21-331-003.

Applicants: DDP Specialty Electronic Materials US, Inc.

Description: Notice of Change in Status of DDP Specialty Electronic Materials US, Inc.

Filed Date: 12/22/21.

Accession Number: 20211222-5223.

Comment Date: 5 p.m. ET 1/12/22.

Docket Numbers: ER22-716-000.

Applicants: PJM Interconnection, L.L.C.

Description: Tariff Amendment: Notice of Cancellation of ISA, SA No. 5527; NQ165 to be effective 3/1/2022.

Filed Date: 12/22/21.

Accession Number: 20211222-5198.

Comment Date: 5 p.m. ET 1/12/22.

Docket Numbers: ER22-717-000.

Applicants: PJM Interconnection, L.L.C.

Description: § 205(d) Rate Filing: Amendment to SA No. 2864 RE: V3-058/V3-059—Osprey (consent) to be effective 4/11/2011.

Filed Date: 12/22/21.

Accession Number: 20211222-5200.

Comment Date: 5 p.m. ET 1/12/22.

Docket Numbers: ER22-718-000.

Applicants: PJM Interconnection, L.L.C.

Description: § 205(d) Rate Filing: Original ISA, Service Agreement No. 6256; Queue No. AE1-044 to be effective 11/23/2021.

Filed Date: 12/22/21.

Accession Number: 20211222-5211.

Comment Date: 5 p.m. ET 1/12/22.

Docket Numbers: ER22-719-000.

Applicants: PJM Interconnection, L.L.C.

Description: § 205(d) Rate Filing: Original ISA, Service Agreement No. 6269; Queue No. AE2-059 to be effective 11/23/2021.

Filed Date: 12/23/21.

Accession Number: 20211223-5012.

Comment Date: 5 p.m. ET 1/13/22.

Docket Numbers: ER22-720-000.

Applicants: ISO New England Inc., Eversource Energy Service Company (as agent).

Description: § 205(d) Rate Filing: ISO New England Inc. submits tariff filing per 35.13(a)(2)(iii: ISO-NE & Eversource; SGIA-ISONE/NSTAR-021-01 & Cancel of SGIA-ISONE/NU-14-01 to be effective 11/23/2021.

Filed Date: 12/23/21.

Accession Number: 20211223-5020.

Comment Date: 5 p.m. ET 1/13/22.

Docket Numbers: ER22-721-000.

Applicants: Kennebec Lumber Company.

Description: Baseline eTariff Filing: Application For Market Based Rate Authority to be effective 1/1/2022.

Filed Date: 12/23/21.

Accession Number: 20211223-5052.

Comment Date: 5 p.m. ET 1/13/22.

Docket Numbers: ER22-722-000.

Applicants: PJM Interconnection, L.L.C.

Description: § 205(d) Rate Filing: Original WMPA, SA No. 6244; Queue No. AG2-135 to be effective 11/23/2021.

Filed Date: 12/23/21.

Accession Number: 20211223-5062.

Comment Date: 5 p.m. ET 1/13/22.

Docket Numbers: ER22-723-000.

Applicants: Buckeye Power, Inc., PJM Interconnection, L.L.C.

Description: § 205(d) Rate Filing: Buckeye Power, Inc. submits tariff filing per 35.13(a)(2)(iii: Revised SA No. 4753—NITSA Among PJM and Buckeye Power, Inc. to be effective 12/1/2021.

Filed Date: 12/23/21.

Accession Number: 20211223-5064.

Comment Date: 5 p.m. ET 1/13/22.

Docket Numbers: ER22-724-000

Applicants: Southern California Edison Company.

Description: Tariff Amendment: Termination of GIA & DSA Valencia Energy Storage, LLC SA No. 1023-1024 WDT1294 to be effective 2/16/2022.

Filed Date: 12/23/21.

Accession Number: 20211223-5114.

Comment Date: 5 p.m. ET 1/13/22.

Docket Numbers: ER22-725-000.

Applicants: Puget Sound Energy, Inc.

Description: § 205(d) Rate Filing: PSEM Transmission Service Agreement to be effective 6/1/2019.

Filed Date: 12/23/21.

Accession Number: 20211223-5138.

Comment Date: 5 p.m. ET 1/13/22.

Docket Numbers: ER22-726-000.

Applicants: Unitil Energy Systems, Inc.

Description: § 205(d) Rate Filing: Wheeling Agreement with Briar Hydro Penacook Upper Falls to be effective 1/1/2022.

Filed Date: 12/23/21.

Accession Number: 20211223-5165.

Comment Date: 5 p.m. ET 1/13/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

Dated: December 23, 2021.
Kimberly D. Bose,
Secretary.

[FR Doc. 2021-28349 Filed 12-29-21; 8:45 am]

BILLING CODE 6717-01-P